DEPARTMENT OF JUSTICE

[OMB Number 1125-0017]

Agency Information Collection Activities; Proposed eCollection eComments Requested; Revision and Extension of a Previously Approved Collection; Certification and Release of Records

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until November 6, 2023.

FOR FURTHER INFORMATION CONTACT: If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: 703-305-0289, email: lauren.alder.reid@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This information collection is optional and voluntary. It is used by EOIR to standardize and streamline requests for records related to cases or proceedings before EOIR pursuant to the Privacy Act and Freedom of Information Act (FOIA). An individual who is in or has been in proceedings before EOIR and seeks to authorize the disclosure of their information, including information retained in case files or a Record of Proceeding (documents, and if applicable, audio recordings), to an attorney, accredited representative, qualified organization, or other third party may use this form to authorize the disclosure. Revisions were made to the form to improve the Agency's implementation of the identity and guardianship verification requirements set forth in 28 CFR 16.41 and to ensure that privacy-protected information is not improperly released.

Overview of This Information Collection

1. Type of Information Collection: Revision and Extension of a previously approved collection.

2. The Title of the Form/Collection: Certification and Release of Records.

3. The agency form number, if any, and the applicable component of the Department sponsoring the collection: EOIR-59, Executive Office for Immigration Review.

4. Affected public who will be asked or required to respond, as well as the obligation to respond: Affected Public: Individuals or households. The obligation to respond is voluntary.

5. An estimate of the total number of respondents and the amount of time estimated for an average respondent to respond: It is estimated that 55,475 respondents will complete each form within approximately 10 minutes.

6. An estimate of the total annual burden (in hours) associated with the collection: The estimated total annual burden hours for this collection is 9,246 annual burden hours.

7. An estimate of the total annual cost burden associated with the collection, if applicable: There are no capital or start-up costs associated with this information collection. The estimated public cost is zero.

Total Burden Hours
Activity | Number of respondents | Frequency | Total annual responses | Time per response | Total annual burden (hours)
Completing the form (individuals) | 55,475 | 1/annually | 55,475 | 10 | 9,246

If additional information is required contact: Darwin Arceo, Department Clearance Officer, United States Department of Justice, Justice Management Division, Policy and Planning Staff, Two Constitution Square, 145 N Street NE, 4W-218, Washington, DC.

Dated: September 1, 2023.
Darwin Arceo,
Department Clearance Officer for PRA, U.S. Department of Justice.

[FR Doc. 2023-19343 Filed 9-6-23; 8:45 am]

BILLING CODE 4410-30-P